DEPARTMENT OF HEALTH AND HUMAN SERVICES

Office of the Secretary, Office of the Assistant Secretary for Administration

Statement of Organization, Functions, and Delegations of Authority

Part A, Office of the Secretary, Statement of Organization, Functions, and Delegations of Authority for the Department of Health and Human Services (HHS) is being amended at Chapter AJ, Office of the Assistant Secretary for Administration, which was last amended at 75 FR 369-370, dated January 5, 2010, and most recently at 77 FR 2729, dated January 19, 2012. Part P, Program Support Center (PSC), Statement of Organization, Functions, and Delegations of Authority for the Department of Health and Human Services (HHS), which was last amended at 75 FR 369-370, dated January 5, 2010, is not being amended, because the functions transferred to PSC in this notice are already covered by the general description of PSC's functions at 75 FR 369-370. This notice transfers the functions of the Office for Facilities Management and Policy (OFMP) in Part A, Chapter AJ to the PSC in Part P and establishes a new major component, within PSC, that combines OFMP's functions with building operations and logistics/warehouse activities currently being performed by components within the PSC. The mission of this new component will be to set building management policy efficiently and effectively. It will also offer building and logistics operations on a fee-for-service basis to the Department and other federal customers. On an incumbent-only basis, the Deputy Assistant Secretary (DAS) for OFMP will continue to directly report to the Assistant Secretary for Administration (ASA). This notice also transfers the budget and financial resources and Department-wide multi-sector workforce management activities previously performed by the Office of Business Management and Transformation to the Program Support Center. Finally, this notice also updates information regarding the Office for Security and Strategic Information's (OSSI's) organizational structure, as well as the new roles and responsibilities for the Deputy Assistant Secretary for Security/Secretary's Senior Intelligence Official and for OSSI. The technical changes are as follows:

A. Under Chapter AJ, Section AJ.10, Organization, delete “Office for Facilities Management and Policy (AJE).”

B. Under Chapter AJ, Section AJ.20, Functions, delete the second paragraph, which begins with, “Office for Facilities Management and Policy (AJE),” in its entirety.

C. Under Chapter AJ, Section AJ.20, Functions, second to last paragraph, which begins with, “Office of Business Management and Transformation (AJJ),” delete the second and third sentences, which start with, “OBMT manages the budget * * *” and “OBMT oversees Department-wide multi-sector * * *, ” respectively.

D. Under Chapter AJ, Section AJ.20, Functions, delete the last paragraph, which begins with, “Office of Security and Strategic Information (AJS),” in its entirety and replace with the following:

Office of Security and Strategic Information (AJS)

The Office of the Secretary (OS) established the Deputy Assistant Secretary (DAS) for Security in the Division of Administration. DAS Security directly reports to the Assistant Secretary for Administration on security issues and also serves as the Secretary's Senior Intelligence Official as a direct report to the Deputy Secretary on intelligence and counterintelligence issues. DAS Security has been delegated original classification authority by the Secretary. DAS Security manages the Office of Security and Strategic Information (OSSI). OSSI's vision is for HHS personnel to successfully accomplish missions worldwide in a security-informed manner and with the actionable intelligence needed, at the right time, for operational and policy decisions. OSSI's responsibilities include: Integrating intelligence and security information into HHS policy and operational decisions; assessing, anticipating, and warning of potential security threats to the Department and our national security; and, providing policy guidance on and managing the OS implementation of the Department's security, intelligence and counterintelligence programs. OSSI's programs include physical security, critical infrastructure protection for HHS facilities, personnel suitability and security, security access management and the continued implementation of Homeland Security Policy Directive 12, classified national security information management, secure compartmented information facilities management, communications security, safeguarding and sharing of classified information, cyber threat intelligence, and counterintelligence. In coordination with the Director of National Intelligence, OSSI has been designated as a Federal Intelligence Coordinating Office and the DAS Security serves as the HHS Federal Senior Intelligence Coordinator. OSSI has responsibilities to establish implementing guidance, provide oversight, and manage the Department's policy for the sharing, safeguarding, and coordinated exchange of information related to national or homeland security with other federal departments and agencies, including law enforcement organizations and the Intelligence Community, in compliance with HHS policies and applicable laws, regulations, and Executive Orders.

E. Delegation of Authority. Pending further redelegation, directives or orders made by the Secretary, Deputy Secretary, or ASA, all delegations and redelegations of authority made to officials and employees of affected organizational components will continue in them or their successors pending further redelegations, provided they are consistent with this reorganization.

Dated: November 16, 2012.
E.J. Holland, Jr.,
Assistant Secretary for Administration.

[FR Doc. 2012-28783 Filed 11-27-12; 8:45 am]

BILLING CODE 4151-17-P